DEPARTMENT OF TRANSPORTATION

Office of the Secretary

Notice of Applications for Certificates of Public Convenience and Necessity and Foreign Air Carrier Permits Filed Under Subpart B (Formerly Subpart Q) During the Week Ending March 16, 2001

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2001-9181.

Date Filed: March 15, 2001.

Due Date for Answers, Conforming Applications, or Motion to Modify Scope: April 5, 2001.

Description: Application of C&L, Inc. d/b/a Homer Air pursuant to 49 U.S.C. 41102, and Subpart Q, requesting a Certificate of Public Convenience and Necessity to engage in interstate scheduled air transportation of persons, property, and mail: between any point in any State in the United States or District of Columbia, or any Territory or Possession of the United States, and any other point in any State of the United States or the District of Columbia, or any Territory or Possession of the United States.

Docket Number: OST-1999-5140.

Date Filed: March 16, 2001.

Due Date for Answers, Conforming Applications, or Motion to Modify Scope: April 6, 2001.

Description: Application of Arrow Air, Inc., requesting (1) renewal for an unlimited term of Certificate Authority, last re-issued by Order 2000-8-5, authorizing U.S.-Peru scheduled all-cargo services; and (2) Amendment of this Certificate Authority to reflect the broader authority now afforded the carriers of both Peru and the U.S. under the 1998 Air Transport Agreement.

Dorothy Y. Beard,
Federal Register Liaison.

[FR Doc. 01-7426 Filed 3-23-01; 8:45 am]

BILLING CODE 4910-62-P